DEPARTMENT OF THE INTERIOR

[FWS-R4-ES-2022-N052; FVHC98220410150-XXX-FF04H00000]

Deepwater Horizon Oil Spill Natural Resource Damage Assessment, Alabama Trustee Implementation Group: Final Bon Secour National Wildlife Refuge Recreation Enhancements: Supplemental Restoration Plan

AGENCY: Department of the Interior.

ACTION: Notice of availability.

SUMMARY: In accordance with the Oil Pollution Act of 1990 (OPA), the National Environmental Policy Act of 1969 (NEPA), the Final Programmatic Damage Assessment Restoration Plan and Final Programmatic Environmental Impact Statement (Final PDARP/PEIS), and the Deepwater Horizon (DWH) Consent Decree, the Federal and State natural resource trustee agencies for the Alabama Trustee Implementation Group (Alabama TIG) have prepared the Final Bon Secour National Wildlife Refuge Recreation Enhancements: Supplemental Restoration Plan (SRP). The Alabama TIG selects their preferred alternative of adding approximately $2 million to the Mobile Street Boardwalk project budget to facilitate full implementation of the project as originally planned. This would continue the process of restoring lost recreational use in the Alabama Restoration Area that resulted from the DWH oil spill of 2010.

ADDRESSES: Obtaining Documents: You may download the Final SRP from the following websites:

• http://www.gulfspillrestoration.noaa.gov/restoration-areas/alabama

• http://www.doi.gov/deepwaterhorizon

Alternatively, you may request a CD (compact disc) of the Final SRP (see FOR FURTHER INFORMATION CONTACT).

FOR FURTHER INFORMATION CONTACT: Nanciann Regalado, via email at nanciann_regalado@fws.gov or via telephone at 678-296-6805. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

On April 20, 2010, the mobile offshore drilling unit, Deepwater Horizon, which was being used to drill a well for BP Exploration and Production, Inc. (BP), in the Macondo prospect (Mississippi Canyon 252—MC252), experienced a significant explosion, fire, and subsequent sinking in the Gulf of Mexico, resulting in an unprecedented volume of oil and other discharges from the rig and from the wellhead on the seabed. The DWH oil spill is the largest oil spill in U.S. history, discharging millions of barrels of oil over a period of 87 days. In addition, well over 1 million gallons of dispersants were applied to the waters of the spill area in an attempt to disperse the spilled oil. An undetermined amount of natural gas was also released into the environment as a result of the spill.

State and Federal trustees conducted the natural resource damage assessment (NRDA) for the DWH oil spill under the Oil Pollution Act 1990 (OPA; 33 U.S.C. 2701 et seq.). Pursuant to the OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the completion of restoration to baseline (the resource quality and conditions that would exist if the spill had not occurred).

The DWH Trustees are:

• U.S. Department of the Interior (DOI), as represented by the National Park Service, U.S. Fish and Wildlife Service (USFWS), and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the U.S. District Court for the Eastern District of Louisiana. Pursuant to that Consent Decree, restoration projects in the Alabama Restoration Area are now chosen and managed by the Alabama TIG. The Alabama TIG is composed of the following six Trustees: Alabama Department of Conservation and Natural Resources, Geological Survey of Alabama, DOI, NOAA, EPA, and USDA.

Background

The Alabama TIG Restoration Plan III/Environmental Assessment (RP III/EA) selected seven projects for implementation, allocating funds from two restoration types identified in the DWH Consent Decree: “Provide and Enhance Recreational Opportunities” and “Birds.” The Alabama TIG RP III addendum subsequently approved funding for the two projects conditionally approved in the RP III/EA, one of which was the Bon Secour National Wildlife Refuge Recreation Enhancement—Mobile Street Boardwalk (Mobile Street Boardwalk) Project. Since then, the project cost estimate has been revised because of increased costs in materials and construction. The cost increases were incurred, in part, due to economic fluctuations accompanying the COVID-19 pandemic, as well as Hurricane Sally which made landfall in September 2020. Given the substantial increase in project cost, the Alabama TIG prepared a Supplemental Restoration Plan to evaluate increasing project funding under the OPA.

A Notice of Availability of the Draft SRP was published in the Federal Register on July 19, 2022 (87 FR 43049). The public was provided with a period to review and comment on the Draft SRP from July 19, 2022, through August 18, 2022. One public comment, which generally supported selection of the AL TIG's preferred alternative, was received.

Overview of the Alabama TIG Final SRP

The Final SRP is being released in accordance with OPA, including criteria set forth in the associated Natural Resource Damage Assessment regulations found in the Code of Federal Regulations (CFR) at 15 CFR part 990, NEPA and its implementing regulations found at 40 CFR parts 1500-1508, and the Final PDARP/PEIS and Consent Decree. The Final SRP provides supplemental OPA NRDA analysis for two Bon Secour National Wildlife Refuge (BSNWR) recreation enhancement projects considered in the RP III/EA: the Mobile Street Boardwalk and Centennial Trail Boardwalk projects. In the Final SRP the AL TIG selects implementation of its preferred alternative: adding $2,037,313 in funding to the Mobile Street Boardwalk project. Fully funding this project will continue the process of restoring natural resources and services injured or lost as a result of the DWH oil spill.

Administrative Record

The documents comprising the administrative record for the SRP can be viewed electronically at https://www.doi.gov/deepwaterhorizon/adminrecord.

Authority

The authority of this action is the OPA (33 U.S.C. 2701 et seq.), its implementing NRDA regulations found at 15 CFR part 990, and NEPA (42 U.S.C. 4321 et seq.) and its implementing regulations found at 40 CFR parts 1500-1508.

Mary Josie Blanchard,
Department of the Interior, Director of Gulf of Mexico Restoration.

[FR Doc. 2022-22575 Filed 10-17-22; 8:45 am]

BILLING CODE 4310-10-P